DEPARTMENT OF HEALTH AND HUMAN SERVICES

Administration for Strategic Preparedness and Response

National Advisory Committee on Individuals With Disabilities and Disasters, National Advisory Committee on Seniors and Disasters, and the National Biodefense Science Board; Call for Member Nominees

AGENCY: Administration for Strategic Preparedness and Response (ASPR), U.S. Department of Health and Human Services (HHS).

ACTION: Notice.

SUMMARY: ASPR, in HHS, is currently seeking applications from qualified individuals for memberships on the following national advisory committees (vacancies): The National Advisory Committee on Individuals with Disabilities and Disasters (NACIDD) (7 vacancies); the National Advisory Committee on Seniors and Disasters (NACSD) (7 vacancies); and the National Biodefense Science Board (NBSB) (7 vacancies). The HHS Secretary will appoint new voting members.

DATES: Nomination Period: The rolling application period is from November 12, 2024-January 11, 2025, at 11:59 p.m. eastern standard time.

FOR FURTHER INFORMATION CONTACT: Sylvia Sosa, Designated Federal Official, NACIDD, ASPR, HHS, NACIDD@hhs.gov, Office: 202-843-3876; Dr. Maxine Kellman, Designated Federal Official, NACSD, ASPR, HHS, NACSD@hhs.gov, Office: 202-260-0447; LCDR Cliffon Smith, Designated Federal Official, NBSB, ASPR, HHS, NBSB@hhs.gov, Office: (202) 868-9352.

SUPPLEMENTARY INFORMATION: The National Advisory Committees (NAC) program includes a group of Federal advisory committees authorized to provide advice and recommendations to the HHS Secretary. The committees are managed by ASPR, with an additional delegation of authority that allows the Administrator and Assistant Secretary for Preparedness and Response (the ASPR) to request and receive recommendations on behalf of the Secretary.

The nationally renowned subject matter experts appointed to the HHS national advisory committees advise the HHS Secretary and the ASPR by holding working groups and public meetings throughout the year to address high priority issues and develop recommendations. These committees bring timely analysis, crucial perspectives, and new ideas to ASPR's strategies and programs.

The committees listed below enhance public health emergency preparedness and response by coordinating federal efforts for the prevention, preparedness, response, and recovery from public health emergencies or medical disasters. They advise on strategic planning and provide expert guidance to lawmakers, the HHS Secretary, and other decision-makers. The ASPR NAC includes: The NACIDD, the NACSD, and the NBSB.

Voting members shall not be full-time or permanent part-time federal employees but shall be appointed by the HHS Secretary as Special Government Employees (5 U.S.C. 3109) in an unpaid position. A voting member of the committees shall serve for a term of three years; the HHS Secretary may also adjust the terms of appointees. A voting member may serve not more than three terms on the committees, and not more than two of such terms may be served consecutively. A member may serve after the expiration of his/her term until a successor has been appointed. Applicants to those positions may be nominated by a relevant organization or may nominate themselves based on their expertise within the following stakeholder groups: Industry, academia, health care consumer organizations, and organizations representing other appropriate stakeholders. Please visit the ASPR's website at: https://aspr.hhs.gov/AboutASPR/WorkingwithASPR/BoardsandCommittees/Pages/default.aspx for all application submission information, additional information regarding the qualifications expected for applicants, and application instructions.

NACIDD

Authority: The NACIDD is required by section 2811C of the Public Health Service (PHS) Act (42 U.S.C. 300hh-10d), as amended by the Pandemic and All-Hazards Preparedness and Advancing Innovation Act (PAHPAIA), Public Law 116-22.

Description of Duties: The NACIDD evaluates issues and programs and provides findings, advice, and recommendations to the HHS Secretary and the ASPR, in accordance with the Federal Advisory Committee Act (FACA), to support and enhance all-hazards public health and medical preparedness, response activities, and recovery, aimed at meeting the unique needs of individuals with disabilities across the entire spectrum of well-being. The NACIDD shall (1) provide advice and consultation with respect to activities carried out in regard to at-risk individuals pursuant to section 2814 of the PHS Act, as applicable and appropriate; (2) evaluate and provide input with respect to the medical, public health, and accessibility needs of individuals with disabilities related to preparation for, response to, and recovery from all-hazards emergencies; and (3) provide advice and consultation with respect to State emergency preparedness and response activities, including related drills and exercises pursuant to the preparedness goals of the National Health Security Strategy authorized under section 2802(b) of the PHS Act. The NACIDD has several additional goals and activities listed in their charter, which can be found here: NACIDD Additional Goals and Activities.

Membership and Designation: Members shall be appointed by the HHS Secretary from among the nation's preeminent scientific, public health, and medical experts in areas consistent with the purpose and functions of the advisory committee. The HHS Secretary, in consultation with such other heads of federal agencies as may be appropriate, shall appoint a maximum of 17 members to the NACIDD, ensuring that the total membership is an odd number. The NACIDD shall consist of at least seven non-federal voting members, including a Chairperson, and:

A. At least two non-federal health care professionals with expertise in disability accessibility before, during, and after disasters, medical and mass care disaster planning, preparedness, response, or recovery;

B. At least two representatives from state, local, tribal, or territorial agencies with expertise in disaster planning, preparedness, response, or recovery for individuals with disabilities; and

C. At least two individuals with a disability with expertise in disaster planning, preparedness, response, or recovery for individuals with disabilities.

The NACIDD shall also have up to 10 federal, non-voting members (ex officio), listed here: NACIDD Federal Non-Voting (Ex Officio) Members.

NACSD

Authority: The NACSD is required by section 2811B of the PHS Act (42 U.S.C. 300hh-10c), as amended by PAHPAIA, Public Law 116-22.

Description of Duties: The NACSD evaluates issues and programs and provides findings, advice, and recommendations to the HHS Secretary and the ASPR, in accordance with FACA, to support and enhance all-hazards public health and medical preparedness, response activities, and recovery aimed at meeting the unique needs of older adults. The NACSD: (1) provides advice and consultation with respect to the activities carried out regarding at-risk individuals pursuant to section 2814 of the PHS Act, as applicable and appropriate; (2) evaluates and provides input with respect to the medical and public health needs of older adults related to preparation for, response to, and recovery from all-hazards emergencies; and (3) provides advice and consultation with respect to State emergency preparedness and response activities relating to older adults, including related drills and exercises pursuant to the preparedness goals under the National Health Security Strategy authorized under section 2802(b) of the PHS Act. The NACSD may provide advice and recommendations to the HHS Secretary and the ASPR with respect to older adults and the medical and public health grants and cooperative agreements as applicable to preparedness and response activities under Title XXVIII and Title III of the PHS Act. The NACSD has several additional goals and activities outlined in their charter, which can be found here: NACSD Additional Goals and Activities.

Membership and Designation: Members shall be appointed by the HHS Secretary from among the nation's preeminent scientific, public health, and medical experts in areas consistent with the purpose and functions of the advisory committee. The HHS Secretary, in consultation with such other heads of federal agencies as may be appropriate, shall appoint a maximum of 17 members to the NACSD, ensuring that the total membership is an odd number.

The NACSD shall consist of at least seven non-federal voting members, including a Chairperson, and:

A. At least two non-federal health care professionals with expertise in gerontological and/or geriatric medical disaster planning, preparedness, response, or recovery; and

B. At least two representatives from state, local, tribal, or territorial agencies with expertise in geriatric disaster planning, preparedness, response, or recovery.

The NACSD shall also have up to 10 federal, non-voting members (ex officio), listed here: NACSD Federal and Non-Federal Non-Voting (Ex Officio) Members

NBSB

Authority: The NBSB is required under section 319M of the PHS Act (42 U.S.C. 247d-7g) section 404 of the Pandemic and All Hazards Preparedness Reauthorization Act (PAHPRA).

Description of Duties: The NBSB advises the HHS Secretary or the ASPR on current and future trends, challenges, and opportunities presented by advances in biological and life sciences, biotechnology, and genetic engineering with respect to threats posed by naturally occurring infectious diseases and chemical, biological, radiological, and nuclear agents, and reviews and considers any information and findings received from the working groups established under 42 U.S.C. 247d-7g(b). At the request of the HHS Secretary, the board also provides recommendations and findings for expanded, intensified, and coordinated biodefense research and development activities. The Board also provides any recommendation, finding, or report provided to the HHS Secretary or the ASPR on these matters to the appropriate committees of Congress.

Membership and Designation: The NBSB shall consist of 13 voting members, including the Chairperson; additionally, there may be non-voting ex officio members. Members and the Chairperson shall be appointed by the HHS Secretary from among the Nation's preeminent scientific, public health, and medical experts, as follows:

A. Such federal officials as the HHS Secretary may determine are necessary to support the functions of the Board;

B. Four individuals representing the pharmaceutical, biotechnology, and device industries;

C. Four individuals representing academia;

D. Five other members as determined appropriate by the HHS Secretary, of whom:

i. One such member shall be a practicing healthcare professional;

ii. One such member shall be an individual from an organization representing healthcare consumers;

iii. One such member shall be an individual with pediatric subject matter expertise; and

iv. One such member shall be a state, tribal, territorial, or local public health official.

Nothing in the membership requirements shall preclude a member of the Board from satisfying two or more of these requirements described in subparagraph (D).

Additional details on NBSB membership requirements can be found in their charter: NBSB Additional Membership Requirements

The Administrator and Assistant Secretary for Preparedness and Response of ASPR, Dawn O'Connell, having reviewed and approved this document, authorizes Adam DeVore, who is the Federal Register liaison, to electronically sign this document for purposes of publication in the Federal Register.

Adam DeVore,
Federal Register Liaison, Administration for Strategic Preparedness and Response.

[FR Doc. 2024-25885 Filed 11-12-24; 8:45 am]

BILLING CODE 4150-37-P